DEPARTMENT OF COMMERCE

National Oceanic and Atmospheric Administration

[I.D. 081605B]

Endangered and Threatened Species; Take of Anadromous Fish

AGENCY: National Marine Fisheries Service (NMFS), National Oceanic and Atmospheric Administration (NOAA), Commerce.

ACTION: Notice; receipt of applications for scientific research permits.

SUMMARY: Notice is hereby given that NMFS has received two scientific research permit applications (1533 and 1548) relating to Pacific salmon. The proposed research is intended to increase knowledge of species listed under the Endangered Species Act (ESA) and to help guide management and conservation efforts.

DATES: Comments or requests for a public hearing on the applications must be received at the appropriate address or fax number (see ADDRESSES) no later than 5 p.m. Pacific daylight-saving time on September 22, 2005.

ADDRESSES: Written comments and public hearing requests on the applications should be mailed to Protected Resources Division, NMFS, 1201 NE Lloyd Blvd., Suite 1100, Portland, OR 97232-1274; or faxed to 503-230-5441; or e-mailed to resapps.nwr@NOAA.gov.

FOR FURTHER INFORMATION CONTACT: Garth Griffin, Portland, OR (ph.: 503-231-2005, fax: 503-230-5441, e-mail: Garth.Griffin@noaa.gov. Permit application instructions are available at http://www.nwr.noaa.gov.

SUPPLEMENTARY INFORMATION:

Species Covered in This Notice

The following listed species (evolutionarily significant units) are covered in this notice:

1. Snake River (SR) fall chinook salmon (Oncorhynchus tshawytscha);

2. SR spring/summer (spr/sum) chinook salmon (O. tshawytscha);

3. Upper Columbia River (UCR) spring chinook salmon (O. tshawytscha);

4. UCR steelhead (O. mykiss); and

5. Middle Columbia River (MCR) steelhead (O. mykiss).

Authority

Scientific research permits are issued in accordance with section 10(a)(1)(A) of the ESA (16 U.S.C. 1531 et. seq) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1533

The Washington Department of Fish and Wildlife (WDFW) is requesting a five-year permit to take adult and juvenile SR spr/sum and fall chinook salmon during the course of two studies in the lower Snake River. The first study would determine steelhead, bull trout, and spring chinook stock status (i.e., distribution, relative abundance, and genetic characterization) in mainstem areas and tributaries of the Grande Ronde and Snake Rivers in Asotin, Garfield, Whitman, and Columbia Counties in Washington State. The second study would take place in Asotin Creek, Washington, and would focus on monitoring the population status of summer steelhead and spring and fall chinook salmon in Asotin Creek above George Creek. It would also focus on the productivity of the natural populations in the absence of direct hatchery influences (i.e., out-plants or supplementation). The studies would benefit the fish by collecting baseline data that would be used to improve planning and future management decisions.

The WDFW intends to capture the fish using smolt traps, hook-and-line fishing equipment, backpack electrofishers and, possibly, dip nets. The fish would be variously captured, handled, measured, tissue-sampled, and released. Some of the captured juveniles would receive passive integrated transponder (PIT) tags, and a few captured adults would receive a combination of floy- and PIT-tags. In some cases, tissue samples would be taken from already dead fish. Moreover, rescue and salvage operations would be conducted whenever needed. The WDFW does not intend to kill any of the fish being captured, but some may die as an unintended result of the research.

Permit 1548

The Yakima Training Center (YTC) is seeking a five-year permit to take juvenile UCR spring chinook salmon, juvenile UCR steelhead, and juvenile MCR steelhead during the course of several surveys on YTC land in southwestern Washington State. The research is designed to determine fish abundance and distribution on the YTC lands as well as describe habitat conditions throughout the 500-square mile reservation. The fish would benefit from the research because it would allow YTC staff to take them fully into account and thereby protect them during all future land management planning. It would also give regional fish managers important data on fish presence that have not previously been available.

The YTC researchers intend to capture the fish using backpack electrofishing gear, seines, and minnow traps. Once captured, the fish would be measured, allowed to recover, and released. Some of the steelhead may have scale samples taken. The YTC does not intend to kill any of the fish being taken, but some may die as an unintended result of the activities.

This notice is provided pursuant to section 10(c) of the ESA. NMFS will evaluate the application, associated documents, and comments submitted to determine whether the application meets the requirements of section 10(a) of the ESA and Federal regulations. The final permit decisions will not be made until after the end of the 30-day comment period. NMFS will publish notice of its final action in the Federal Register.

Dated: August 18, 2005.
P. Michael Payne,
Acting Chief, Endangered Species Division, Office of Protected Resources, National Marine Fisheries Service.

[FR Doc. 05-16710 Filed 8-22-05; 8:45 am]

BILLING CODE 3510-22-S